DEPARTMENT OF HEALTH AND HUMAN SERVICES

Office of the Secretary

Statement of Organization, Functions, and Delegations of Authority

Part A, Office of the Secretary, Statement of Organization, Functions, and Delegations of Authority for the Department of Health and Human Services, Chapter AK, Office of Medicare Hearings and Appeals (OMHA), as last amended at 70 FR 36386-36387, dated June 23, 2005, is amended as follows:

I. Under Section AK.10 Organization, delete in its entirety and replace with the following:

Section AK.10 Organization. The Office of Medicare Hearings and Appeals (OMHA) is under the direction of the Chief Administrative Law Judge (CALJ), who reports directly to the Secretary. OMHA consists of the following components:

• Medicare Hearings and Appeals Chief Judge's Office (CJO) (Headquarters Office) (AKA)

—Office of Operations (AKA1)

—Office of Programs (AKA2)

• Medicare Hearings and Appeals Field Offices (AKB1-AKB4)

II. Under Section AK.20 Functions, Paragraph A, “The Office of Medicare Hearings and Appeals Immediate Office (AK),” delete the second paragraph, which begins with, “The Executive Director (ED) of OMHA/IO, reports to the CALJ, and is responsible for all operational matters * * *” in its entirety and replace with the following:

Within OMHA/CJO, the Director, Office of Operations and the Director, Office of Programs, both of whom report to the CALJ, are responsible for all operational matters and for executive and managerial oversight, respectively, in support of the mission of the office, with the exception of areas directly involving the conduct of adjudicatory hearings and the rendering of fair and impartial decisions ensuing from those hearings.

III. Under Section AK.20 Functions, Paragraph B, “Medicare Hearings and Appeals Field Offices (AKB1-4),” delete the first paragraph, which begins with, “The Field Offices are headed by a Managing Administrative Law Judge (MALJ) who reports directly to the CALJ. The Managing Administrative Law Judge (MALJ) acts on behalf of the CALJ at the respective field office location on all matters involving the hearing process, and is directly responsible for the effective execution of the hearings process within the field location * * *,” in its entirety and replace with the following:

OMHA's Field Offices are headed by the Associate Chief Administrative Law Judges, all of whom report directly to OMHA's Chief Administrative Law Judge (CALJ). Each Field Office's Associate Chief Administrative Law Judge (ACALJ) acts on behalf of the OMHA CALJ at his or her respective field office location on all matters involving the hearing process and is directly responsible for the effective execution of the hearings process within the field location. Each Field Office's ACALJ is responsible for: (a) Providing direction, leadership, management and guidance to the field office staff, including Supervisory Administrative Law Judges (SALJs) and their staffs, (b) field office implementation of policies, goals, objectives, and procedures pertaining to the hearings process and formulating policies, goals, and objectives for the SALJs and support staff in their field office; (c) planning, organizing and administering field operations for scheduling and conducting independent and impartial hearings on appealed determinations involving adjudicatory hearings for authorities delegated to the SALJs by the Secretary; (d) developing and recommending OMHA action with respect to allegation of unfair hearings within the field operations; (e) upon request by SALJs, providing advice and guidance in matters related to adjudicating cases under the provisions of the Social Security Act; and (f) conducting adjudicatory hearings under authorities delegated to the SALJs by the Secretary.

IV. Under Section AK.20 Functions, Paragraph B, “Medicare Hearings and Appeals Field Offices (AKB1-4),” replace all reference to the “Hearing Office Manager” as the “Hearing Office Director” and all references to the “HOM” as the “HOD.”

V. Delegation of Authority. Pending further delegation, directives or orders by the Secretary or by the Chief Administrative Law Judge, all delegations and re delegations of authority made to officials and employees of affected organizational components will continue in them or their successors pending further re delegations, provided they are consistent with this reorganization.

Dated: January 25, 2011.
E.J. Holland, Jr.,
Assistant Secretary for Administration.

[FR Doc. 2011-8356 Filed 4-8-11; 8:45 am]

BILLING CODE 4150-24-P